DEPARTMENT OF HOMELAND SECURITY

Coast Guard

33 CFR Part 165

[Docket Number USCG-2017-0338]

Regulated Navigation Areas; Harbor Entrances Along the Coast of Northern California

AGENCY: Coast Guard, DHS.

ACTION: Request for comments.

SUMMARY: The Coast Guard is reopening the public comment period on the request for comments on the potential establishment of Regulated Navigation Areas (RNAs) at the harbor entrance bars to Crescent Harbor, Humboldt Bay, Noyo River, and Morro Bay that published on February 8, 2018. The comment period ended on March 12, 2018. The Coast Guard did not receive any comments on the original request for comments and has decided to re-open the comment period to provide additional opportunity for informed public comment.

DATES: The comment period for the request for comments published at 83 FR 5592 has been reopened. Comments and related material must reach the Coast Guard on or before March 30, 2018.

ADDRESSES: You may submit comments identified by docket number USCG-2017-0338, as published at 83 FR 5592 on February 8, 2018, using the Federal portal at http://www.regulations.gov. See the “Public Participation and Request for portion of the SUPPLEMENTARY INFORMATION section below for instructions on submitting comments.

FOR FURTHER INFORMATION CONTACT: If you have questions about this notice, call or email Lieutenant Colleen Ryan, Coast Guard District Eleven, Waterways Management; telephone 510-437-5984, email Colleen.M.Ryan@uscg.mil.

SUPPLEMENTARY INFORMATION:

I. Background and Purpose

On February 8, 2018, we published a request for comments entitled, “Regulated Navigation Areas; Harbor Entrances Along the Coast of Northern California” at 83 FR 5592. The comment period ended on March 12, 2018. The Coast Guard did not receive any comments on the original request for comments and has decided to re-open the comment period to provide additional opportunity for informed public comment. The Coast Guard will consider any comments that are received by the agency after the original March 12th closing date, but before the publication of this notice reopening the comment period.

II. Information Requested

As discussed in the original published request for comment, the Coast Guard seeks comments and information for agency consideration and to inform any future establishment of RNAs that would create bar closure conditions as well as regulate vessel bar transits during hazardous bar conditions for all recreational, commercial fishing, and passenger vessels. The Coast Guard requests and encourages open discussion and candid feedback on the possibility of establishing RNAs for Crescent City, Humboldt Bay, Noyo River, and Morro Bay harbor bar entrances. The following considerations warrant special attention:

• Weather and sea conditions at the bars that the maritime community considers a risk to safe navigation for recreational vessels, passenger vessels, fishing vessels and deep draft vessel;

• The economic impact of bar closures and restrictions on the maritime community; and

• Preferred methods of notification for bar restrictions and closures.

III. Public Participation and Request for Comments

We encourage you to submit comments through the Federal portal at http://www.regulations.gov. If your material cannot be submitted using http://www.regulations.gov, contact the person in the FOR FURTHER INFORMATION CONTACT section of this document for alternate instructions. In your submission, please include the docket number for this notice of inquiry and provide a reason for each suggestion or recommendation.

We accept anonymous comments. All comments received will be posted without change to http://www.regulations.gov and will include any personal information you have provided. For more about privacy and the docket, visit http://www.regulations.gov/privacyNotice.

All public comments will be available in our online docket at http://www.regulations.gov and can be viewed by following that website's instructions.

Dated: March 12, 2018.
James B. Pruett,
Captain, U.S. Coast Guard, Acting Commander, Eleventh Coast Guard District.

[FR Doc. 2018-05342 Filed 3-15-18; 8:45 am]

BILLING CODE P